DEPARTMENT OF ENERGY

Federal Energy Regulatory Commission

[Docket Nos. ER00-845-000, ER00-851-000, ER00-860-000]

Southern California Edison Company, Pacific Gas and Electric Company, San Diego Gas and Electric Company; Notice of Informal Settlement Conference

August 22, 2000.

Take notice that an informal settlement conference will be convened in this proceeding on Thursday, August 24, 2000, at 1:30 p.m., Eastern Standard Time, at the offices of the Federal Energy Regulatory Commission, 888 First Street, NE., Washington, DC, for the purpose of exploring the possible settlement of the issues remaining in Docket No. ER00-845-000.

Any party, as defined by 18 CFR 385.102(c), or any participant as defined by 18 CFR 385.102(b), is invited to attend. A toll-free call-in number will be made available for parties who want to participate by telephone.

For additional information, contact Edith Gilmore at (202) 208-2158 or Diane B. Schratwieser at (202) 208-1176.

Linwood A. Watson, Jr.,
Acting Secretary.

[FR Doc. 00-21849 Filed 8-25-00; 8:45 am]

BILLING CODE 6717-01-M